DEPARTMENT OF COMMERCE

Minority Business Development Agency

Online Performance Data Base

ACTION: Proposed collection; comment request.

SUMMARY: The Department of Commerce, as part of its continuing effort to reduce paperwork and respondent burden, invites other Federal agencies and the general public to take this opportunity to comment on proposed or continuing information collections, as required by the Paperwork Reduction Act of 1995, Pub. L. 104-13 (44 U.S.C. 3506(c)(2)(A)).

DATES: Written comments must be submitted on or before October 25, 2002.

ADDRESSES: Direct all written comments to Madeleine Clayton, Departmental Paperwork Clearance Officer, Department of Commerce, Room 6608, 14th and Constitution Avenue, NW., Washington, DC 20230 or via internet at Mclayton@doc.gov.

FOR FURTHER INFORMATION CONTACT: Requests for additional information or copies of the information collection instrument and instructions should be directed to Juanita E. Berry, Department of Commerce, Minority Business Development Agency (MBDA), Room 5079, 14th and Constitution Avenue, NW., Washington, DC 20230, or call (202) 482-3262.

SUPPLEMENTARY INFORMATION:

I. Abstract

The Performance Database identifies minority business clients receiving Agency-sponsored business development services in the form of management and technical assistance, the kind of assistance each receives, and the impact of that assistance on the growth and profitability of the client firms. MBDA requires this information to monitor, evaluate, and plan Agency programs which effectively enhance the development of the minority business sector.

II. Method of Collection

Electronic transfer of performance data.

III. Data

OMB Number: 0640-0002.

Agency Form Number: N/A.

Type of Review: Extension of a currently approved collection.

Affected Public: State or local governments, individuals, and profit and non-profit institutions.

Estimated Number of Responses: 240 (approximately 50 respondents with numerous responses).

Estimated Time Per Response: 3-15 minutes per function, as needed (5 functions).

Estimated Total Annual Burden Hours: 4,818.

Estimated Total Annual Cost: $0 (software package is provided by MBDA).

IV. Request for Comments

Comments are invited on: (a) Whether the proposed collection of information is necessary for the proper performance of the functions of the agency, including whether the information shall have practical utility; (b) the accuracy of the agency's estimate of the burden (including hours and cost) of the proposed collection of information; (c) ways to enhance the quality, utility and clarity of the information to be collected; and (d) ways to minimize the burden of the collection of information on respondents, including through the use of automated collection techniques or other forms of information technology.

Comments submitted in response to this notice will be summarized and/or included in the request for OMB approval of this information collection; they will also become a matter of pubic record.

Dated: August 20, 2002.
Madeleine Clayton,
Departmental Paperwork Clearance Officer, Electronic Government Division, Office of the Chief Information Officer.

[FR Doc. 02-21601 Filed 8-23-02; 8:45 am]

BILLING CODE 3510-21-P